DEPARTMENT OF COMMERCE

National Oceanic and Atmospheric Administration

[I.D. 060502D]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene public meetings of the Reef Fish Advisory Panel (AP) and the Standing and Special Reef Fish Scientific and Statistical Committee (SSC) from June 24 through June 27, 2002.

DATES: The Council’s Reef Fish AP will convene at 9 a.m. on Monday, June 24, 2002 and conclude by 5 p.m. on Tuesday, June 25, 2002. The SSC will convene at 9 a.m. on Wednesday, June 26, 2002 and will conclude by 5 p.m. on Thursday, June 27, 2002.

ADDRESSES: The meetings will be held at the Hilton Tampa Airport Westshore Hotel, 2225 Lois Avenue, Tampa, FL; telephone: 813-877-6688.

Council address: Gulf of Mexico Fishery Management Council, 3018 U.S. Highway 301 North, Suite 1000, Tampa, FL 33619.

FOR FURTHER INFORMATION CONTACT: Mr. Steven Atran, Population Dynamics Statistician, the Gulf of Mexico Fishery Management Council, 3018 U.S. Highway 301 North, Suite 1000, Tampa, FL 33619; telephone: 813-228-2815.

SUPPLEMENTARY INFORMATION: The AP and the SSC will review a report of the Council’s Socioeconomic Panel (SEP). The major content of the SEP report is a bioeconomic model evaluation of the economic implications of various measures proposed to rebuild the Gulf of Mexico red grouper stock under the draft Secretarial Amendment 1 to the Reef Fish Fishery Management Plan to Set a 10-Year Rebuilding Plan for Red Grouper, with Associated Impacts on Gag and Other Groupers and Draft Supplemental Environmental Impact Statement. The AP and SSC will also provide recommendations to the Council on red grouper regulations.

Although other non-emergency issues not on the agenda may come before the AP/SSC for discussion, in accordance with the Magnuson-Stevens Fishery Conservation and Management Act, those issues may not be the subject of formal action during these meetings. Actions of the AP/SSC will be restricted to those issues specifically identified in the agendas and any issues arising after publication of this notice that require emergency action under Section 305(c) of the Magnuson-Stevens Act, provided the public has been notified of the Council's intent to take action to address the emergency.

Copies of the agendas of these meetings, and draft Secretarial Amendment 1, can be obtained by calling the Council office at 813-228-2815 (toll-free 888-833-1844). Additional materials, including an addendum to Secretarial Amendment 1 (reflecting changes to the Council’s preferred alternatives made at the May Council meeting), and the Socioeconomic Panel report, can also be obtained from the Council office but may not be available until just prior to the meetings.

Special Accommodations

This meeting is physically accessible to people with disabilities. Requests for sign language interpretation or other auxiliary aids should be directed to Anne Alford at the Council (see ADDRESSES) by June 17, 2002.

Dated: June 5, 2002.
Virginia M. Fay,
Acting Director, Office of Sustainable Fisheries, National Marine Fisheries Service.

[FR Doc. 02-14668 Filed 6-10-02; 8:45 am]

BILLING CODE 3510-22-S